DEPARTMENT OF COMMERCE

National Oceanic and Atmospheric Administration

[RTID 0648-XE342]

South Atlantic Fishery Management Council; Public Meetings

AGENCY: National Marine Fisheries Service (NMFS), National Oceanic and Atmospheric Administration (NOAA), Commerce.

ACTION: Notice of a public meeting.

SUMMARY: The South Atlantic Fishery Management Council (Council) will hold a meeting of the Scientific and Statistical Committee (SSC) on October 22-24, 2024.

DATES: The SSC meeting will be held from 8:30 a.m. until 5 p.m. EDT on October 22, 2024, from 8:30 a.m. until 5 p.m. on October 23, 2024, and from 8:30 a.m. until 12 p.m. on October 24, 2024.

ADDRESSES:

Council address: South Atlantic Fishery Management Council, 4055 Faber Place Drive, Suite 201, N. Charleston, SC 29405.

Meeting address: The meeting will be held at the Hotel Indigo Mount Pleasant, 250 Jonnie Dodds Blvd., Mount Pleasant, SC 29464; phone: (843) 884-6000.

The meeting will also be available via webinar. Registration is required. Webinar registration, an online public comment form, and briefing book materials will be available two weeks prior to the meetings at: https://safmc.net/scientific-and-statistical-committee-meeting/.

FOR FURTHER INFORMATION CONTACT: Dr. Judd Curtis, Quantitative Fishery Scientist, SAFMC; phone: (843) 302-8441 or toll free: (866) SAFMC-10; fax: (843) 769-4520; email: judd.curtis@safmc.net.

SUPPLEMENTARY INFORMATION: The SSC meeting agenda includes a review of the revised Acceptable Biological Catch (ABC) Control Rule and development of stock risk ratings for several species; black sea bass projection scenarios, spawning potential ratio determinations, and ABC recommendations; final model for the Snapper Grouper Management Strategy Evaluation; and the Southeast Data, Assessment, and Review (SEDAR) 92 Tilefish stock assessment. The Committee will receive an update on the proposed SEDAR procedural changes and discussion of key stocks, Southeast For-Hire Integrated Electronic Reporting Amendment, and Precision Threshold and Unassessed Stocks Working Group. The Committee will also receive an update on the Stock Assessment and Fishery Evaluation (SAFE) Reports, report from the 8th annual meeting of the Scientific Coordination Subcommittee, process for conducting the mutton snapper and yellowtail snapper stock assessment reviews, SSC workgroups, and discuss other business as necessary.

Special Accommodations

These meetings are physically accessible to people with disabilities. Requests for auxiliary aids should be directed to the Council office (see ADDRESSES) 5 days prior to the meeting.

Note: The times and sequence specified in this agenda are subject to change.

Authority: 16 U.S.C. 1801 et seq.

Dated: September 30, 2024.
Rey Israel Marquez,
Acting Deputy Director, Office of Sustainable Fisheries, National Marine Fisheries Service.

[FR Doc. 2024-22926 Filed 10-3-24; 8:45 am]

BILLING CODE 3510-22-P